DEPARTMENT OF STATE

22 CFR Part 62

[Public Notice: 6455]

Exchange Visitor Program

AGENCY: Department of State.

ACTION: Proposed rule with request for comment; withdrawal.

SUMMARY: On December 10, 2008, the State Department published in the Federal Register a proposed rule titled Exchange Visitor Program. The Department amended the General Provisions of the existing Exchange Visitor Program regulations set forth at 22 CFR Part 62. This proposed rule is being withdrawn because it was submitted prior to a formal significance designation being made by OMB. The proposed rule is withdrawn in its entirety.

DATES: The proposed rule published at 73 FR 75015, December 10, 2008, is withdrawn effective December 16, 2008.

FOR FURTHER INFORMATION CONTACT: Michael Cheman, U.S. Department of State, Washington, DC 20547, (202) 312-9605.

SUPPLEMENTARY INFORMATION:

Background

On December 10, 2008, the State Department published a proposed rule at 73 FR 75015. The rule was intended to amend the General Provisions (Subpart A) of the existing Exchange Visitor Program regulations set forth at 22 CFR part 62 in order to provide greater specificity regarding program administration, sponsor obligations and participant eligibility in the Exchange Visitor Program.

Reason for Withdrawal

This rule was published prior to submission to OMB for formal significance designation. The proposed rule is withdrawn for OMB review. Accordingly, the Department withdraws the proposed rule “Exchange Visitor Program”, Public Notice: 6448, RIN 1400-AC36.

Withdrawal of the proposed rule does not preclude the Department from issuing another rule on the subject matter in the future or committing the agency to any future course of action.

Dated: December 10, 2008.
Michael G. Cheman,
Deputy Director, Office of Directives Management, Department of State.

[FR Doc. E8-29784 Filed 12-16-08; 8:45 am]

BILLING CODE 4710-24-P